DEPARTMENT OF COMMERCE

Foreign-Trade Zones Board

[B-18-2020]

Foreign-Trade Zone (FTZ) 158—Jackson, Mississippi, Notification of Proposed Production Activity, Traxys Cometals USA, LLC (Manganese and Aluminum Alloying Agents), Burnsville, Mississippi

Traxys Cometals USA, LLC (Traxys Cometals) submitted a notification of proposed production activity to the FTZ Board for its facility in Burnsville, Mississippi. The notification conforming to the requirements of the regulations of the FTZ Board (15 CFR 400.22) was received on March 11, 2020.

Traxys Cometals already has authority to produce high-grade manganese and aluminum alloying agents within FTZ 158. The current request would add a finished product and a foreign status material/component to the scope of authority. Pursuant to 15 CFR 400.14(b), additional FTZ authority would be limited to the specific foreign-status material/component and the specific finished product described in the submitted notification (as described below) and subsequently authorized by the FTZ Board.

Production under FTZ procedures could exempt Traxys Cometals from customs duty payments on the foreign-status materials/components used in export production. On its domestic sales, for the foreign-status material/component noted below and in the existing scope of authority, Traxys Cometals would be able to choose the duty rate during customs entry procedures that applies to low-carbon ferromanganese powder (duty rate 2.3%). Traxys Cometals would be able to avoid duty on foreign-status components which become scrap/waste. Customs duties also could possibly be deferred or reduced on foreign-status production equipment.

The material/component sourced from abroad is manganese powder (duty rate 14%).

Public comment is invited from interested parties. Submissions shall be addressed to the Board's Executive Secretary and sent to: ftz@trade.gov. The closing period for their receipt is May 4, 2020.

A copy of the notification will be available for public inspection in the “Reading Room” section of the Board's website, which is accessible via www.trade.gov/ftz.

For further information, contact Christopher Wedderburn at Chris.Wedderburn@trade.gov or (202) 482-1963.

Dated: March 17, 2020.
Andrew McGilvray,
Executive Secretary.

[FR Doc. 2020-06056 Filed 3-20-20; 8:45 am]

BILLING CODE 3510-DS-P